NUCLEAR REGULATORY COMMISSION

[Docket No. 50-266]

Nuclear Management Company, LLC; Notice of Withdrawal of Application for Amendment to Facility Operating License

The U.S. Nuclear Regulatory Commission (the Commission) has granted the request of Nuclear Management Company, LLC (the licensee) to withdraw its April 29, 2005, application for proposed amendment to Facility Operating License No. DPR-24 for the Point Beach Nuclear Plant (PBNP), Unit 1, located in Two Rivers, WI.

The proposed amendment would modify the PBNP Final Safety Analysis Report to include a reactor vessel head drop accident.

The Commission had previously issued a Notice of Consideration of Issuance of Amendment published in the Federal Register on May 13, 2005 (70 FR 25621). The April 29, 2005, application proposed amendments to PBNP, Units 1 and 2, Facility Operating License Nos. DPR-24 and DPR-27, respectively. However, by letter dated May 13, 2005, the licensee withdrew the proposed amendment for PBNP, Unit 1, Facility Operating License No. DPR-24.

For further details with respect to this action, see the application for amendment dated April 29, 2005, and the licensee's letter dated May 13, 2005, which withdrew the application for license amendment. Documents may be examined, and/or copied for a fee, at the NRC's Public Document Room (PDR), located at One White Flint North, Public File Area 01 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or (301) 415-4737 or by e-mail to pdr@nrc.gov.

Dated at Rockville, Maryland, this 24th day of June 2005.
For the Nuclear Regulatory Commission.
Harold K. Chernoff, Sr.,
Project Manager, Section 1, Project Directorate III, Division of Licensing Project Management, Office of Nuclear Reactor Regulation.

[FR Doc. 05-12989 Filed 6-30-05; 8:45 am]

BILLING CODE 7590-01-P